DEPARTMENT OF HEALTH AND HUMAN SERVICES

Administration for Children and Families

Proposed Information Collection Activity; Comment Request

Proposed Projects

Title: Multi-site Evaluation of Foster Youth Programs.

OMB No. 0970-0253.

Description: The Administration for Children and Families (ACF) within the Department of Health and Human Services (HHS) is requesting comments on plans to continue data collection for the Evaluation of Independent Living Programs funded under the Chafee Foster Care Independence Program. The Foster Care Independence Act of 1999 (Pub. L. 106-169) mandates evaluations of promising independent living programs administered by State and local child welfare agencies. ACF is conducting an evaluation of four independent living programs using a randomized experimental design. Youth aged 14-21 receiving independent living program services are interviewed at three points during the evaluation period. Program administrators, staff, and youth participate in interviews, observations, and focus groups conducted during program site visits.

In addition, ACF is requesting comments on plans to begin data collection and conduct an evaluation of a fifth independent living program using a randomized experimental design. Youth aged 18-21 will be interviewed at three points during the evaluation period. Program administrators, staff, and youth will participate in interviews, observations, and focus groups conducted during the program site visits.

Respondents: Youth, caseworkers, program administrators, and staff.

Annual Burden Estimate
Instrument | Number of respondents | Number of responses per respondent | Average burden hours per response | Total burden hours
Ongoing Study Sites
Baseline:
Youth interview | 98 | 1 | 1.5 | 147
Caseworker survey | 4 | 19 | .5 | 38
First Follow Up:
Your interview | 177 | 1 | 1.5 | 266
Caseworker survey | 4 | 36 | .5 | 72
Program Site visit | 50 | 1 | 1.5 | 75
Second Follow Up:
Youth interview | 370 | 1 | 1.5 | 555
New (5th) Study Site
Baseline:
Youth interview | 250 | 1 | 1.5 | 375
Program site visit | 80 | 1 | 1.5 | 120
First Follow Up:
Youth interview | 213 | 1 | 1.5 | 320
Program site visit | 50 | 1 | 1.5 | 75
Second Follow Up:
Youth interview | 200 | 1 | 1.5 | 300

Estimated Total Burden Hours: 2,343.

Estimated Annual Burden Hours (average over three years): 781.

In compliance with the requirements of seciton 3506(c)(2)(A) of the Paperwork Reduction Act of 1995, the Administration for Children and Families is soliciting public comment on the specific aspects of the information collection described above.

Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 11, 2006.
Robert Sargis,
Reports Clearance Officer.

[FR Doc. 06-4633 Filed 5-17-06; 8:45 am]

BILLING CODE 4184-01-M